DEPARTMENT OF TRANSPORTATION

Office of the Secretary

14 CFR Ch. II

[Docket No. DOT-OST-2024-0062]

RIN 2105-AF20

Airline Passenger Rights; Withdrawal

AGENCY: Office of the Secretary (OST), Department of Transportation (Department or DOT).

ACTION: Advance notice of proposed rulemaking (ANPRM); withdrawal.

SUMMARY: The Department is withdrawing the ANPRM on Airline Passenger Rights issued on December 11, 2024. The ANPRM sought public comment on a potential regulatory action that would require airlines to provide passengers affected by significant flight disruptions with a variety of costly measures. The withdrawal of this ANPRM is consistent with Executive Order (E.O.) 14192, “Unleashing Prosperity Through Deregulation,” which directs Federal agencies to reduce regulatory burdens, and E.O. 14219, “Ensuring Lawful Governance and Implementation of the President's `Department of Government Efficiency' Deregulatory Agenda,” which directs Federal agencies to identify and to repeal or to modify regulations that are unlawful or unauthorized.

DATES: The Department of Transportation is withdrawing the advance notice proposed rulemaking published December 11, 2024 (89 FR 99760) as of November 17, 2025.

ADDRESSES:

For more information: Heather Filemyr, John Wood, or Blane A. Workie, Office of Aviation Consumer Protection, U.S. Department of Transportation, 1200 New Jersey Ave. SE, Washington, DC 20590, 202-366-9342, 202-366-7152 (fax), C70Notice@dot.gov (email). Please include RIN 2105-AF20 in the subject line of the message.

Electronic Access: Docket: For access to the docket to read background documents and comments received, go to the street address listed above or visit http://www.regulations.gov. Enter the docket number DOT-OST-2024-0062 in the search field.

SUPPLEMENTARY INFORMATION:

A. Background

On December 11, 2024, the Department issued an ANPRM titled, “Airline Passenger Rights.” ¹ In that ANPRM, the Department requested public comment on possible measures to address air travel consumers affected by cancellations and lengthy delays. The Department explained that it was considering proposing to require airlines to provide passengers affected by significant flight delays and cancellations with cash compensation, free rebooking, and amenities such as meals, lodging for overnight delays, and transportation to and from lodging. The Department also requested comment on whether it should require airlines to offer free rebooking to passengers with a disability (and others in the same travel party) when one or more accessibility features needed by the passenger with a disability is unavailable.

¹ 89 FR 99760 (Dec. 11, 2024).

On January 31, 2025, the President signed Executive Order (E.O.) 14192, “Unleashing Prosperity Through Deregulation,” to reduce the private expenditures required to comply with Federal regulations and to ensure the cost of planned regulations is responsibly managed and controlled through a rigorous regulatory budgeting process. Pursuant to E.O. 14192, it is the policy of the executive branch to be prudent and financially responsible in the expenditure of funds, from both public and private sources, and to alleviate unnecessary regulatory burdens placed on the American people. On February 19, 2025, the President issued Executive Order 14219, “Ensuring Lawful Governance and Implementation of the President's `Department of Government Efficiency' Deregulatory Agenda,” which states that the policy of the Administration is to focus the executive branch's limited enforcement resources on regulations squarely authorized by constitutional Federal statutes and to commence the deconstruction of the overbearing and burdensome administrative state. Consistent with these orders, the Department published a Request for Information (RFI) that sought comments and information to assist DOT in identifying existing regulations, guidance documents, paperwork requirements, and other regulatory obligations that can be modified or repealed, consistent with law, to ensure that DOT administrative actions do not undermine the national interest and that DOT achieves meaningful burden reduction while continuing to meet statutory obligations, and to ensure the safety of the U.S. transportation system.²

² See 90 FR 14593 (Apr. 3, 2025).

This notice discusses the Department's review of public comments, existing laws addressing the rights of consumers affected by significant flight disruptions, and the application of executive branch policies to the Airline Passenger Rights rulemaking.

B. Public Comments

The Department received approximately 350 comments on the ANPRM during the public comment period. Commenters included airlines and airline associations, consumer advocacy groups, disability rights groups, individual consumers, a ticket agent association, and an organization that submits compensation claims to airlines on behalf of consumers. After the public comment period on the ANPRM, the Department also received eight comments in response to the Department's RFI that specifically addressed the ANPRM.³

³ The Department also received several comments on the RFI from airlines that expressed general support for the comments of the International Air Transport Association without specifically mentioning this rulemaking. Comments on the RFI are available at https://www.regulations.gov/docket/DOT-OST-2025-0026.

In their comments on the ANPRM, airlines and airline associations unanimously opposed new passenger rights requirements. These commenters stated that new requirements for services and compensation for significant flight disruptions would greatly increase costs for passengers and airlines, with Airlines for America (A4A) and the International Air Transport Association providing an estimate that annual costs to airlines would be $5 billion dollars or more. A few individual commenters also expressed concern with the potential costs of new passenger rights requirements for airlines and consumers, with one noting that compensation requirements would create an unsustainable financial burden on airlines, ultimately harming consumers through reduced service and higher fares. Airline and airline association commenters further stated that airlines are highly competitive and already incentivized to provide the highest level of customer service and that any new requirements would exceed the Department's authority and would result in airlines offering reduced services. They further added that requirements similar to those discussed in the ANPRM would reduce operational reliability and had generally not improved operations in Europe or Canada. Some of these commenters stated that new requirements may incentivize airlines to risk safety in favor of timeliness. A4A commented that the ANPRM was “directly contrary to President Trump's policy to alleviate unnecessary regulatory burdens and significantly reduce the private expenditures required by Federal regulations.” Airlines and airline associations made comments in response to the RFI similar to those they made in response to the ANPRM. They emphasized that the ANPRM was inconsistent with Executive Orders 14192 and 14219, and asserted that deregulation, not prescriptive rules, leads to improved services for travelers, lower fares, and more competition. The airline associations and airlines requested that the Department “terminate” or “abandon” this rulemaking.

On the other hand, consumer advocacy groups and hundreds of individual commenters supported new regulations requiring services and compensation for significant flight disruptions. The groups cited the cost of flight disruptions to passengers as a rationale for continuing with this rulemaking and stated that the Department's regulatory precedent and legal authority also justify the rulemaking. They argued that voluntary commitments by airlines to care for passengers affected by controllable flight disruptions are insufficient because airlines may remove these commitments or fail to inform passengers about them, leaving consumers with inadequate protection. They also pointed out that no large U.S. airline currently guarantees cash compensation for significant flight disruptions. These commenters further stated that this rule would incentivize competition and improve on-time performance. AirHelp made similar comments to those from consumer advocacy groups and estimated that imposing a similar regime in the United States would cost each consumer under one dollar per ticket and would not impact airline profitability. Disability rights advocacy groups (the Muscular Dystrophy Association, Paralyzed Veterans of America, and the United Spinal Tap Association) and some individual commenters supported new rebooking requirements for passengers with disabilities who face significant changes to their itineraries affecting accessibility, explaining the unique hardships they face under these circumstances.

C. DOT Response

In light of the comments, applicable legal authorities, and Department and Administration policies, the Department has decided to withdraw the ANPRM on Airline Passenger Rights.

Section 512 of the FAA Reauthorization Act of 2024 requires the Department to “direct” air carriers providing scheduled passenger service “to establish policies regarding reimbursement for lodging, transportation between such lodging and the airport, and meal costs incurred due to a flight cancellation or significant delay directly attributable to the air carrier.” Subsection 512(c) does not authorize the Department to regulate further in this area as it states that “[n]othing in this section shall be construed as providing the Secretary with any additional authorities beyond the authority to require air carriers establish the policies referred to in” subsection 512(a). The Department finds the best reading of section 512 is that Congress intended the airlines to establish reimbursement policies for the specific situations listed in the statute, and the statute does not authorize the Department to require reimbursements or compensations for flight disruptions. Despite the language of section 512, the Department sought comment not only on imposing requirements for carriers to establish policies on reimbursements but also on whether to require carriers to provide cash compensation, free rebooking, and additional services not specified in section 512 for passengers impacted by significant flight disruptions. Therefore, consistent with section 2(a)(iii) of E.O. 14219, the Department finds that the ANPRM was not based on the best reading of the underlying statutory authority and must be withdrawn.

In addition, under 49 U.S.C. 40101, the Department must consider certain factors as being in the public interest in carrying out economic regulation. Among those factors are “placing maximum reliance on competitive market forces and on actual and potential competition” and “encouraging, developing, and maintaining an air transportation system relying on actual and potential competition to provide efficiency, innovation, and low prices.” ⁴ The Department concludes that it is consistent with this statute to continue to allow airlines to compete on the services and compensation that they provide to passengers rather than imposing new minimum requirements for these services and compensation through regulation, which would impose significant costs on airlines, and potentially consumers.

⁴ See 49 U.S.C. 40101(a)(6), (a)(12).

According to airline representatives, airlines have strong incentives to take care of passengers during significant flight disruptions and already do so voluntarily.⁵ At this time, the 10 largest U.S. passenger air carriers, whose networks account for more than 97 percent of domestic scheduled passenger enplanements,⁶ maintain voluntary commitments in their customer service plans required by 14 CFR 259.5 to assist passengers affected by cancellations and significant delays that are controllable by the carrier. Those voluntary commitments are reflected on the Department's Delay and Cancellation Dashboard (Dashboard).⁷ For example, as reflected on the Dashboard, all 10 of the largest U.S. airlines guarantee a meal and rebooking without charge on the ticketed airline, and 9 guarantee hotel accommodation and ground transportation to and from the hotel for passengers affected by controllable overnight delays and cancellations.

⁵ See, e.g., comment of A4A, available at https://www.regulations.gov/comment/DOT-OST-2024-0062-0347 (noting that “members abide by—and frequently exceed DOT's regulations regarding consumer protections”).

⁶ The statistic is based on calendar year 2024 on-market enplanement data for domestic scheduled passenger operations collected by the Department's Bureau of Transportation Statistics. See Bureau of Transportation Statistics, Passengers, https://www.transtats.bts.gov/Data_Elements.aspx?Data=1 (last accessed May 12, 2025).

⁷ The Department maintains the Dashboard online as required by 49 U.S.C § 42308. See www.flightrights.gov.

Regarding new rebooking requirements for individuals with disabilities affected by flight disruptions and changes, the Department recognizes that many airlines will voluntarily rebook passengers without charge when there are changes to the accessibility features of a passenger's flight.⁸ In addition, the Department's recent final rule, “Ensuring Safe Accommodations for Air Travelers with Disabilities Using Wheelchairs” (2024 Wheelchair Rule), issued after the Airline Passenger Rights ANPRM, has already extended new regulatory rebooking protections to those passengers with disabilities who use wheelchairs and scooters.⁹ The 2024 Wheelchair Rule requires airlines to offer free rebooking on the next available flight of the same or partner airline if the passenger's wheelchair or scooter is not loaded onto their scheduled flight or does not fit on the scheduled flight.¹⁰

⁸ See, e.g., comment from A4A and IATA on DOT rule, Ensuring Safe Accommodations for Air Travelers with Disabilities Using Wheelchairs, available at https://www.regulations.gov/comment/DOT-OST-2022-0144-1950 (discussing airline voluntary rebooking practices for passengers with wheelchairs and other mobility aids).

⁹ RIN 2105-AAF14, 89 FR 102398 (Dec. 17, 2024).

¹⁰ See 89 FR 102398 (Dec. 17, 2024). The Department published a Federal Register notice stating that it will not enforce the 2024 Wheelchair Rule before August 1, 2025.See 90 FR 24319 (June 10, 2025). On September 30, 2025, the Department published another Federal Register notice that temporarily delays enforcement of certain provisions in the 2024 Wheelchair Rule but does not impact enforcement of the majority of the requirements, including this rebooking requirement. 90 FR 46751.

With respect to passenger compensation requirements, four of the largest U.S. airlines have already chosen voluntarily to commit in their customer service plans to provide passengers compensation for cancellations and significant delays that are controllable by the airline in the form of credits, travel vouchers, or frequent flyer miles.¹¹ Based on the Department's enforcement experience, some airlines may even offer compensation to accommodate passengers on a case-by-case basis to encourage loyalty despite not being obligated to do so.

¹¹ See www.flightrights.gov.

Further supporting that airline commitments for cancellations and delays should be addressed without additional regulatory requirements on airlines, the FAA Reauthorization Act of 2024 requires the Department to “establish, maintain, and make publicly available” a “dashboard that displays information regarding the services and compensation provided by each large air carrier to mitigate any passenger inconvenience caused by a delay or cancellation due to circumstances in control of such carrier.” ¹² The Department has continued to publicize airlines' voluntary commitments to provide services and compensation on the Dashboard consistent with this statutory mandate.

¹² See Public Law 118-63, 138 Stat. 1025 (2024).

In addition, the Department is not convinced that a new regulatory regime that includes passenger compensation requirements would yield meaningful improvements in airline flight performance. Over 20 year ago, the European Union (EU) imposed requirements similar to those explored in the Department's ANPRM, and the public comments and data presented do not demonstrate conclusively that those requirements have resulted in meaningful improvements to the reliability of flights covered by the EU regime.¹³ Rather than issuing burdensome and complex new regulations not supported by data, the Department is focusing its efforts on helping airlines improve performance for consumers through improvements to the National Air Space (NAS). DOT's efforts to increase the number of air traffic controllers and create a state-of-the-art, brand new air control system will provide airlines a better operational environment to serve air travelers reliably. In addition, the Department is concerned that regulations, such as those discussed in the ANPRM, may discourage airlines from focusing on investments in new technologies to address cancellation and delays directly. This is a tradeoff that the Department is not prepared to accept. The Department therefore finds, consistent with section 2(a)(vi) of E.O. 14219, that the ANPRM risks harm to the national interest by significantly and unjustifiably impeding technological innovation. In addition, with some annual cost estimates projected to exceed $5 billion dollars (which could potentially be passed down to American consumers in the form of higher ticket prices), with no appreciable data documenting operational improvements, the Department finds, consistent with section 2(a)(v) of E.O. 14219, that the ANPRM would impose significant costs upon private parties that are not outweighed by public benefits.

¹³ See 89 FR 99760, 99773 (Dec. 11, 2024) (comparing a working paper by the European University Institute finding “an economically important and statistically significant effect of EC261 regulation [covering compensation and services] on both departure and arrival delay, as well as on-time performance” with a study contracted by the European Commission that concluded that it was “possible” that the EU regulation “has a marginal impact on the proportion of flights delayed” but stating that the impact “does not appear to be significant compared to other factors”).

Given the foregoing considerations, the Department concludes that regulatory action requiring specific services and compensation for significant flight disruptions would result in unnecessary regulatory burdens, does not correspond with the policies and priorities of the Department and Administration, and is inconsistent with E.O. 14192 and E.O.14219 and is thus withdrawing the ANPRM.

Signed in Washington, DC.
Gregory D. Cote,
Principal Deputy General Counsel.

[FR Doc. 2025-20042 Filed 11-14-25; 8:45 am]

BILLING CODE 4910-9X-P